Title 3—

The President

Executive Order 13717 of February 2, 2016

Establishing a Federal Earthquake Risk Management Standard

By the authority vested in me as President by the Constitution and the laws of the United States of America, including the Earthquake Hazards Reduction Act of 1977, as amended, and section 121(a) of title 40, United States Code, and to improve the Nation's resilience to earthquakes, I hereby direct the following:

Section 1. Policy. It is the policy of the United States to strengthen the security and resilience of the Nation against earthquakes, to promote public safety, economic strength, and national security. To that end, the Federal Government must continue to take proactive steps to enhance the resilience of buildings that are owned, leased, financed, or regulated by the Federal Government. When making investment decisions related to Federal buildings, each executive department and agency (agency) responsible for implementing this order shall seek to enhance resilience by reducing risk to the lives of building occupants and improving continued performance of essential functions following future earthquakes. The Federal Government recognizes that building codes and standards primarily focus on ensuring minimum acceptable levels of earthquake safety for preserving the lives of building occupants. To achieve true resilience against earthquakes, however, new and existing buildings may need to exceed those codes and standards to ensure, for example, that the buildings can continue to perform their essential functions following future earthquakes. Agencies are thus encouraged to consider going beyond the codes and standards set out in this order to ensure that buildings are fully earthquake resilient.

Sec. 2. Requirements for Earthquake Safety of New Federal Buildings, Improvements to Existing Federal Buildings, and Federally Leased, Financed, or Regulated Buildings.

(a) New Buildings and Alterations to Existing Buildings. Each agency responsible for the design and construction of a new building or an alteration to an existing building shall ensure that the building is designed, constructed, or altered, respectively, in accord with appropriate earthquake-resistant design and construction codes and standards as set forth in sections 3(a) and 3(b) of this order.

(b) Space Leased for Federal Occupancy. Each agency responsible for the lease of a building shall, to the extent permitted by law, ensure that it leases only buildings that have been designed and constructed in accord with the appropriate earthquake-resistant design and construction standards that apply to the type of lease at issue, as set forth in section 3(c) of this order.

(c) Federal Assistance Programs. Each agency assisting in the financing, through Federal grants or loans, or guaranteeing the financing, through loan or mortgage insurance programs, of a newly constructed building shall consider updating its procedures for providing the assistance to be consistent with section 3(a) of this order, to assure appropriate consideration of earthquake safety.

(d) Federally Regulated Buildings. Each agency with responsibility for regulating the structural safety of a new building shall consider using earthquake-resistant design and construction standards for the new building consistent with section 3(a) of this order.

Sec. 3. Codes, Standards, and Concurrent Requirements. (a) Commencing within 90 days after the date of this order, each agency shall ensure that every new building for which the agency has not started programming is in compliance with the earthquake-resistant design provisions of the 2015 editions of the International Building Code (IBC) or the International Residential Code (IRC), nationally recognized building codes promulgated by the International Code Council (ICC), or equivalent codes, consistent with the provisions of and to the extent required by 40 U.S.C. 3312. When the ICC releases a new version of the IRC or IBC, each agency that constructs buildings shall determine whether the new version is a nationally recognized code for the purposes of 40 U.S.C. 3312(b), as expeditiously as practicable, but not later than 2 years after the release of the new version. If an agency determines that a new version is a nationally recognized code, it shall ensure that any building, for which the agency has not started programming, shall be in compliance with that new version or an equivalent code.

(b) Each agency that owns an existing Federal building shall adopt the Standards of Seismic Safety for Existing Federally Owned and Leased Buildings (Standards), which are developed, issued, and maintained by the Interagency Committee on Seismic Safety in Construction (ICSSC), as the minimum level acceptable for managing the earthquake risks in that building. Any agency that has not adopted the Standards at the time of this order shall adopt the Standards no later than 90 days from the date of this order. All agencies shall adopt subsequent editions of the Standards as expeditiously as practicable, but no later than 2 years following their issuance.

(c) Each agency that leases space in an existing building shall adopt the Standards as the minimum level acceptable for managing the earthquake risks in that building. This requirement shall apply to existing leases or leases existing at the time of issuance of updated Standards only to the extent appropriate, as determined by the leasing agency. With respect to leases for a building being constructed to accommodate a Federal agency under the authority in 40 U.S.C. 585(a), the leasing agency shall ensure that the building complies with the earthquake-resistant design and construction standards that would apply to a building constructed by the agency pursuant to section 3(a) of this order. With respect to such leases entered into under authority other than 40 U.S.C. 585(a), the leasing agency shall ensure that the building complies with the earthquake-resistant design and construction standards that would apply to a building constructed by the agency pursuant to section 3(a) of this order, to the extent permitted by law.

(d) Agencies may require higher performance levels than exist in the codes and standards described in sections 3(a), (b), and (c) of this order.

Sec. 4. Agency and Committee Responsibilities. (a) The ICSSC shall be composed of representatives of all Federal agencies engaged in construction, financing of construction, or related activities. The National Earthquake Hazards Reduction Program (NEHRP) Lead Agency, currently the National Institute of Standards and Technology (NIST), shall lead the ICSSC, and shall lead the development and maintenance of ICSSC guidelines to assist the Federal agencies with implementing earthquake risk reduction measures in their construction programs.

(b) Agencies whose activities are covered by this order shall designate one or more Seismic Safety Coordinator(s) to serve as focal points for the agency's compliance with this order and to participate in the ICSSC as appropriate. Within 30 days of the date of this order, each agency shall identify its Seismic Safety Coordinator(s) to the Director of NIST.

(c) The Director of NIST, on behalf of the ICSSC, shall issue implementing guidelines to assist agency compliance with this order within 8 months of the date of this order. The implementing guidelines shall provide specific guidance, including guidance about the roles and responsibilities of the agencies under section 2 of this order. The implementing guidelines shall also describe the responsibilities and necessary qualifications of the Seismic Safety Coordinator.

(d) The Director of NIST, on behalf of the ICSSC, shall provide assistance in interpreting the implementing guidelines to the Federal departments and agencies.

(e) The ICSSC shall publish updated Standards for assessing and enhancing the earthquake resilience of existing buildings as required by this order. The ICSSC shall review and update the Standards as needed to comply with this order at the maximum interval of every 6 years. Participation in the ICSSC shall continue to be open to all agencies with programs affected by this order. The Director of NIST shall provide support for the secretariat of the ICSSC and determine the frequency and scope of the ICSSC meetings as necessary to support this order.

(f) Agencies whose activities are covered by this order shall submit biennial reports to the Director of the Office of Management and Budget (OMB) and the Director of NIST on their progress in implementing the order, commencing 2 years from the date of this order.

(g) Agency compliance shall be summarized in the NEHRP reports to the Congress.

Sec. 5. Revocation. Executive Order 12699 of January 5, 1990 (Seismic Safety of Federal and Federally Assisted or Regulated New Building Construction), as amended, and Executive Order 12941 of December 1, 1994 (Seismic Safety of Existing Federally Owned or Leased Buildings) are hereby revoked.

Sec. 6. Definitions. As used in this order:

(a) “building” means any structure, fully or partially enclosed, used or intended for sheltering persons or property;

(b) “alteration to an existing building” means an action that alters, as defined in 40 U.S.C. 3301(a)(1), a building and that significantly extends the building's useful life and totals more than the replacement values established in the Standards for the building's assigned Seismic Design Category; and

(c) “programming” means developing and validating project assumptions, scope, budgets, and implementation strategy for a building.

Sec. 7. Exemption Authority. (a) The head of an agency may exempt a building from sections 2 and 3 of this order:

(i) to the extent the head of an agency determines that exempting such building is substantially related to an important law enforcement purpose; or

(ii) to the extent the head of an agency determines that exempting such building is necessary to address an extraordinary circumstance relating to national security or public safety.

(b) Even when otherwise eligible for an exemption under this section, each agency shall strive to comply with the purposes, goals, and requirements set forth in this order to the maximum extent practicable.

(c) If the head of an agency issues an exemption under this section, the agency must notify the Director of OMB in writing within 30 days of issuance of the exemption under this subsection.

Sec. 8. General Provisions. (a) Nothing in this order shall be construed to impair or otherwise affect:

(i) the authority granted by law to an executive department, agency, or the head thereof; or

(ii) the functions of the Director of OMB relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) Nothing in this order shall apply to assistance provided for emergency work essential to save lives and protect property and public health and safety, performed pursuant to agencies' statutory authorities, and sections 402, 403, 502, and 503 of the Robert T. Stafford Disaster Relief and Emergency Assistance Act (the “Stafford Act”) (42 U.S.C. 5170a, 5170b, 5192, and 5193), or for temporary housing assistance programs and individual and family grants performed pursuant to section 408 of the Stafford Act (42 U.S.C. 5174). This order shall, however, apply to other provisions of the Stafford Act after a Presidentially declared major disaster or emergency when assistance actions involve new construction or alterations to an existing building.

(e) This order applies only to buildings within the United States and its territories and possessions.

THE WHITE HOUSE,

February 2, 2016.

[FR Doc. 2016-02475

Filed 2-4-16; 11:15 am]

Billing code 3295-F6-P